DEPARTMENT OF COMMERCE

Foreign-Trade Zones Board

[S-149-2018]

Approval of Subzone Status; Digi-Key Corporation; Fargo, North Dakota

On September 26, 2018, the Executive Secretary of the Foreign-Trade Zones (FTZ) Board docketed an application submitted by the Municipal Airport Authority of the City of Fargo, grantee of FTZ 267, requesting subzone status subject to the existing activation limit of FTZ 267, on behalf of Digi-Key Corporation, in Fargo, North Dakota.

The application was processed in accordance with the FTZ Act and Regulations, including notice in the Federal Register inviting public comment (83 FR 49356, October 1, 2018). The FTZ staff examiner reviewed the application and determined that it meets the criteria for approval. Pursuant to the authority delegated to the FTZ Board Executive Secretary (15 CFR Sec. 400.36(f)), the application to establish Subzone 267A was approved on November 14, 2018, subject to the FTZ Act and the Board's regulations, including Section 400.13, and further subject to FTZ 267's 1,026-acre activation limit.

Dated: November 14, 2018.
Elizabeth Whiteman,
Acting Executive Secretary.

[FR Doc. 2018-25147 Filed 11-16-18; 8:45 am]

BILLING CODE 3510-DS-P